DEPARTMENT OF ENERGY

Federal Energy Regulatory Commission

Combined Notice of Filings #1

Take notice that the Commission received the following electric rate filings:

Docket Numbers: ER07-771-007.

Applicants: Louisville Gas & Electric Company, Kentucky Utilities Company.

Description: Annual Schedule 2 True-Up Filing of Louisville Gas and Electric Company/Kentucky Utilities Company.

Filed Date: 9/12/2013.

Accession Number: 20130912-5073.

Comments Due: 5 p.m. ET 8/15/14.

Docket Numbers: ER07-771-008.

Applicants: Louisville Gas & Electric Company, Kentucky Utilities Company.

Description: Annual Schedule 2 True-Up Filing of Louisville Gas and Electric Company/Kentucky Utilities Company.

Filed Date: 7/18/14.

Accession Number: 20140718-5139.

Comments Due: 5 p.m. ET 8/15/14.

Docket Numbers: ER10-2924-005.

Applicants: Kleen Energy Systems, LLC.

Description: Compliance Filing for Electric Tariff to be effective 7/25/2014.

Filed Date: 7/24/14.

Accession Number: 20140724-5092.

Comments Due: 5 p.m. ET 8/14/14.

Docket Numbers: ER14-1913-001.

Applicants: Oneta Power, LLC.

Description: Amendment to Tariff Filing to be effective 5/9/2014.

Filed Date: 7/24/14.

Accession Number: 20140724-5104.

Comments Due: 5 p.m. ET 8/14/14.

Docket Numbers: ER14-2232-001.

Applicants: Capital Energy LLC.

Description: Updated Asset Appendix to be effective N/A.

Filed Date: 7/24/14.

Accession Number: 20140724-5118.

Comments Due: 5 p.m. ET 8/14/14.

Docket Numbers: ER14-2498-000.

Applicants: EIF Newark, LLC.

Description: Market-Based Rate Application to be effective 9/22/2014.

Filed Date: 7/24/14.

Accession Number: 20140724-5107.

Comments Due: 5 p.m. ET 8/14/14.

Docket Numbers: ER14-2499-000.

Applicants: Oneta Power, LLC.

Description: Notice of Succession of Market_Based Rate Tariff to be effective 7/3/2014.

Filed Date: 7/24/14.

Accession Number: 20140724-5109.

Comments Due: 5 p.m. ET 8/14/14.

Docket Numbers: ER14-2500-000.

Applicants: Newark Energy Center, LLC.

Description: Market-Based Rate Application to be effective 9/22/2014.

Filed Date: 7/24/14.

Accession Number: 20140724-5112.

Comments Due: 5 p.m. ET 8/14/14.

Docket Numbers: ER14-2501-000.

Applicants: EAM Nelson Holding, LLC.

Description: EAM Nelson Holding, LLC, Reactive Power Rate Schedule to be effective 9/1/2014.

Filed Date: 7/24/14.

Accession Number: 20140724-5116.

Comments Due: 5 p.m. ET 8/14/14.

Docket Numbers: ER14-2502-000.

Applicants: Entergy Power, LLC.

Description: Entergy Power, LLC, Reactive Power Rate Schedule to be effective 9/1/2014.

Filed Date: 7/24/14.

Accession Number: 20140724-5117.

Comments Due: 5 p.m. ET 8/14/14.

Docket Numbers: ER14-2503-000.

Applicants: Fitchburg Gas and Electric Light Company.

Description: Normal FGE and KCS Service to be effective 7/1/2014.

Filed Date: 7/25/14.

Accession Number: 20140725-5000.

Comments Due: 5 p.m. ET 8/15/14.

Docket Numbers: ER14-2504-000.

Applicants: Southern California Edison Company.

Description: CLGIA with Windhub Solar, LLC. to be effective 7/26/2014.

Filed Date: 7/25/14.

Accession Number: 20140725-5001.

Comments Due: 5 p.m. ET 8/15/14.

Docket Numbers: ER14-2505-000.

Applicants: Kentucky Utilities Company.

Description: CWIP Modifications to be effective 6/20/2014.

Filed Date: 7/25/14.

Accession Number: 20140725-5030.

Comments Due: 5 p.m. ET 8/15/14.

Take notice that the Commission received the following land acquisition reports:

Docket Numbers: LA14-2-000.

Applicants: East Coast Power Linden Holdings, L.L.C., Cogen Technologies Linden Venture, L.P., Birchwood Power Partners, L.P., Shady Hills Power Company, L.L.C., EFS Parlin Holdings, LLC, Inland Empire Energy Center, LLC, Homer City Generation, L.P.

Description: Quarterly Land Acquisition Report of the GE Companies.

Filed Date: 7/24/14.

Accession Number: 20140724-5121.

Comments Due: 5 p.m. ET 8/14/14.

Docket Numbers: LA14-2-000.

Applicants: Beech Ridge Energy LLC, Bishop Hill Energy LLC, Bishop Hill Energy III LLC, California Ridge Wind Energy LLC, Forward Energy LLC, Grand Ridge Energy LLC, Grand Ridge Energy II LLC, Grand Ridge Energy III LLC, Grand Ridge Energy IV LLC, Grand Ridge Energy V LLC, Gratiot County Wind LLC, Gratiot County Wind II LLC, Grays Harbor Energy LLC, Hardee Power Partners Limited, Invenergy Cannon Falls LLC, Invenergy TN LLC, Judith Gap Energy LLC, Prairie Breeze Wind Energy LLC, Sheldon Energy LLC, Spring Canyon Energy LLC, Spindle Hill Energy LLC, Stony Creek Energy LLC, Vantage Wind Energy LLC, Willow Creek Energy LLC, Wolverine Creek Energy LLC.

Description: Quarterly Land Acquisition Report of Beech Ridge Energy LLC, et al.

Filed Date: 7/25/14.

Accession Number: 20140725-5025.

Comments Due: 5 p.m. ET 8/15/14.

Take notice that the Commission received the following qualifying facility filings:

Docket Numbers: QF14-642-000.

Applicants: CII Methane Management IV, LLC.

Description: Request for Waiver and Proposed Refund Report of CII Methane Management IV, LLC.

Filed Date: 7/25/14.

Accession Number: 20140725-5022.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2014.
Nathaniel J. Davis, Sr.,
Deputy Secretary.

[FR Doc. 2014-18207 Filed 7-31-14; 8:45 am]

BILLING CODE 6717-01-P